DEPARTMENT OF LABOR

Employment and Training Administration

[TA-W-60,156]

Thermo Electron RMSI, Environmental Instruments Division, Santa Fe, NM; Notice of Termination of Investigation

Pursuant to Section 221 of the Trade Act of 1974, as amended, an investigation was initiated on September 27, 2006 in response to a petition filed by a company official on behalf of workers at Thermo Electron RMSI, Environmental Instruments Division, Santa Fe, New Mexico.

The petitioner has requested that the petition be withdrawn. Consequently, the investigation has been terminated.

Signed at Washington, DC, this 17th day of October 2006.
Linda G. Poole,
Certifying Officer, Division of Trade Adjustment Assistance.

[FR Doc. E6-17864 Filed 10-24-06; 8:45 am]

BILLING CODE 4510-30-P